NATIONAL SCIENCE FOUNDATION

Advisory Committee for Engineering; Notice of Meeting

In accordance with Federal Advisory Committee Act (Pub. L. 92-463, as amended), the National Science Foundation announces the following meeting:

Name: Advisory Committee for Engineering (1170).

Date/Time: October 15, 2008: 12 p.m. to 6:30 p.m.; October 16, 2008: 8 a.m.-12 p.m.

Place: National Science Foundation, 4201 Wilson Boulevard, Suite 375, Arlington, Virginia 22230.

Type of Meeting: Open.

Contact Person: Shirah Pope, National Science Foundation, 4201 Wilson Boulevard, Suite 505, Arlington, Virginia 22230.

Purpose of Meeting: To provide advice, recommendations and counsel on major goals and policies pertaining to engineering programs and activities.

Agenda

Wednesday, October 15

Emerging Frontiers in Research and Innovation Update (EFRI)

Discussion of Potential Future ENG Topics

Overview of EHR Programs for Broadening Participation

Thursday, October 16

Report from Subcommittee on Broadening Participation and Discussion

Overview of the Division of Electrical Communications and Cyber Systems (ECCS)

ECCS Committee of Visitor's Report

Discussion with Arden Bement, Director and Kathie Olsen, Deputy Director, NSF

Dated: September 23, 2008.
Susanne Bolton,
Committee Management Officer.

[FR Doc. E8-22753 Filed 9-26-08; 8:45 am]

BILLING CODE 7555-01-P